DEPARTMENT OF DEFENSE

Office of the Secretary

Membership of the Defense Contract Audit Agency Senior Executive Service Performance Review Boards

AGENCY: Defense Contract Audit Agency, Department of Defense (DoD).

ACTION: Notice of Membership of the Defense Contract Audit Agency Senior Executive Service Performance Review Boards.

SUMMARY: This notice announces the appointment of members to the Defense Contract Audit Agency (DCAA) Performance Review Boards. The Performance Review Boards provide fair and impartial review of Senior Executive Service (SES) performance appraisals and make recommendations to the Director, DCAA, regarding final performance ratings and performance awards for DCAA SES members.

DATES: Effective Date: Upon publication of this notice.

FOR FURTHER INFORMATION CONTACT: Sandra L. Burrell, Chief, Human Resources Management Division, Defense Contract Audit Agency, 8725 John J. Kingman Road, Suite 2133, Fort Belvoir, Virginia 22060-6219, (703) 767-1039.

SUPPLEMENTARY INFORMATION: In accordance with 5 U.S.C. 4314(c)(4), the following are the names and titles of DCAA career executives appointed to serve as members of the DCAA Performance Review Boards. Appointees will serve one-year terms, effective upon publication of this notice.

Headquarters Performance Review Board:

Ms. Karen Cash, Assistant Director, Operations, DCAA; chairperson.

Mr. Kenneth Saccoccia, Assistant Director, Policy and Plans, DCAA; member.

Mr. Donald McKenzie, Assistant Director, Integrity & Quality Assurance, DCAA; member.

Regional Performance Review Board:

Mr. David Eck, Regional Director, Mid-Atlantic, DCAA; chairperson.

Mr. Ronald Mullinax, Regional Director, Western, DCAA; member.

Mr. Ronald Meldonian, Regional Director, Northeastern, DCAA; member.

Dated: September 22, 2011.
Aaron Siegel,
Alternate OSD Federal Register Liaison Officer, Department of Defense.

[FR Doc. 2011-24789 Filed 9-26-11; 8:45 am]

BILLING CODE 5001-06-P